DEPARTMENT OF COMMERCE

Patent and Trademark Office

Submission for OMB Review; Comment Request; “Rules for Patent Maintenance Fees”

Summary: The United States Patent and Trademark Office (USPTO) will submit to the Office of Management and Budget (OMB) for clearance the following proposal for collection of information under the provisions of the Paperwork Reduction Act.

Agency: United States Patent and Trademark Office, Commerce.

Title: Rules for Patent Maintenance Fees.

OMB Control Number: 0651-0016.

Form Number(s):

• PTO/SB/45

• PTO/SB/47

• PTO/SB/66

Type of Request: Regular.

Number of Respondents: 533,910 responses per year.

Average Hours per Response: The USPTO estimates it will take respondents from 0.006 hours (20 seconds) to 8 hours to complete the items in this collection, depending on the instrument(s) used.

Burden Hours: 13,878.89 hours per year.

Cost Burden: $1,209,457,959.50.

Needs and Uses: This information collection is necessary so that patent owners can maintain a utility patent in force and to ensure that the USPTO can properly credit maintenance fee payments. The USPTO offers forms to assist the public with providing the information covered by this collection, including maintenance fee payments, petitions to accept delayed maintenance fee payments, and fee address changes.

The public uses the Maintenance Fee Transmittal Form (PTO/SB/45) to determine and pay the correct amount due for a maintenance fee transaction. PTO/SB/45 may be mailed or faxed to the USPTO, but PTO/SB/45 may not be submitted electronically via EFS-Web. Customers may submit maintenance fees and six-month grace period surcharges paid before patent expiration electronically over the internet using the USPTO's Office of Finance Online Shopping Page (hereinafter, the “Electronic Maintenance Fee Form”) provided through the USPTO website. To pay a maintenance fee after patent expiration, customers must submit the maintenance fee payment together with a Petition to Accept Unintentionally Delayed Payment (PTO/SB/66). A petition to accept delayed payment of a maintenance fee under the unintentional standard may be filed online. To designate or change a fee address, the customer must submit a Fee Address Indication Form (PTO/SB/47).

Completion of these forms results in information collected, maintained, and used consistent with all applicable OMB and USPTO Information Quality Guidelines. This includes the basic information quality standards established in the Paperwork Reduction Act (44 U.S.C. chapter 35) (PRA), in OMB Circular A-130, and in the OMB information quality guidelines.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0016 comment” in the subject line of the message.

• Mail: Raul Tamayo, Senior Legal Advisor, Office of Patent Legal Administration,, United States Patent and Trademark Office, P.O. Box 1450, Alexandria, VA 22313-1450.

Written comments and recommendations for the proposed information collection should be sent on or before August 24, 2018 to Nicholas A. Fraser, OMB Desk Officer, via email to Nicholas_A._Fraser@omb.eop.gov, or by fax to 202-395-5167, marked to the attention of Nicholas A. Fraser.

Marcie Lovett,
Director, Records and Information Governance Division, Office of the Chief Technology Officer, United States Patent and Trademark Office.

[FR Doc. 2018-15877 Filed 7-24-18; 8:45 am]

BILLING CODE 3510-16-P